DEPARTMENT OF COMMERCE

International Trade Administration

[A-570-890]

Wooden Bedroom Furniture From the People's Republic of China: Notice of Partial Rescission of Antidumping Duty Administrative Review

AGENCY: Enforcement and Compliance, International Trade Administration, Department of Commerce.

SUMMARY: The Department of Commerce (Commerce) is rescinding, in part, the administrative review of the antidumping duty (AD) order on wooden bedroom furniture from the People's Republic of China (China) for the period January 1, 2017, through December 31, 2017.

DATES: Applicable September 10, 2018.

FOR FURTHER INFORMATION CONTACT: Patrick O'Connor, AD/CVD Operations, Office IV, Enforcement and Compliance, International Trade Administration, U.S. Department of Commerce, 1401 Constitution Avenue NW, Washington, DC 20230, telephone: (202) 482-0989.

SUPPLEMENTARY INFORMATION:

Background

On January 2, 2018, Commerce published in the Federal Register, a notice of opportunity to request an administrative review of the AD order on wooden bedroom furniture from China (the Order) covering the period January 1, 2017, through December 31, 2017.¹ Commerce received multiple timely requests for an administrative review of the Order.² On March 16, 2018, in accordance with section 751(a) of Tariff Act of 1930, as amended (the Act) and 19 CFR 351.221(c)(1)(i), Commerce published in the Federal Register a notice initiating an administrative review of the Order with respect to 73 companies or groups of companies covering the period January 1, 2017, through December 31, 2017.³ All requesting parties subsequently timely withdrew their requests to review the 60 companies or groups of companies listed in the Appendix to this notice.⁴

¹ See Antidumping or Countervailing Duty Order, Finding, or Suspended Investigation; Opportunity To Request Administrative Review, 83 FR 98 (January 2, 2018).

² See letter from Decca Furniture Limited, re: “Wooden Bedroom Furniture from the People's Republic of China: Decca Furniture Limited's Request for Administrative Review,” dated January 5, 2018; see letter from Guangzhou Maria Yee Furnishings Ltd., PYLA HK LIMITED, and MARIA YEE, INC., re: “Wooden Bedroom Furniture from the People's Republic of China; Request for Administrative Review and Request for Voluntary Respondent Treatment,” dated January 22, 2018; see letter from the American Furniture Manufacturers Committee for Legal Trade and Vaughan-Bassett Furniture Company, Inc. (the petitioners), re: “Wooden Bedroom Furniture from the People's Republic of China: Request for Initiation of Administrative Review,” dated January 31, 2018; see letter from Kimball International, Inc., Kimball Furniture Group, Inc., and Kimball Hospitality Inc., re: “Wooden Bedroom Furniture from the People's Republic of China: Request for Initiation of Antidumping Duty Administrative Review,” dated January 31, 2018; see letter from Xiamen Yongquan Sci-Tech Development Co., Ltd., re: “Request for Thirteenth Administrative Review of the Antidumping Duty Order on Wooden Bedroom Furniture from the People's Republic of China,” dated January 31, 2018.

³ See Initiation of Antidumping and Countervailing Duty Administrative Reviews, 83 FR 11685 (March 16, 2018) (Initiation Notice).

⁴ See letter from the petitioners, re: “Wooden Bedroom Furniture From The People's Republic of China/Partial Withdrawal Of Request For Administrative Review, dated June 8, 2018; see letter from Kimball International, Inc., Kimball Furniture Group, Inc., and Kimball Hospitality Inc., re: “Wooden Bedroom Furniture from The People's Republic of China: Withdrawal of Request for Administrative Review,” dated June 11, 2018; see letter from Xiamen Yongquan Sci-Tech Development Co., Ltd., re: “Withdrawal of Review Request: Administrative Review of the Antidumping Duty Order on Wooden Bedroom Furniture from the People's Republic of China (POR 01/01/17-12/31/17),” dated June 11, 2018; see letter from Guangzhou Maria Yee Furnishings Ltd., PYLA HK LIMITED, and MARIA YEE, INC., re: “Wooden Bedroom Furniture from the People's Republic of China; Maria Yee's Withdrawal of Request for Review,” dated June 12, 2018; see letter from the petitioners, re: “Wooden Bedroom Furniture From The People's Republic of China/Partial Withdrawal Of Request For Administrative Review, dated June 13, 2018; see letter from the petitioners, re: “Wooden Bedroom Furniture From The People's Republic of China/Partial Withdrawal Of Request For Administrative Review, dated June 14, 2018.

Rescission of Review, in Part

Pursuant to 19 CFR 351.213(d)(1), Commerce will rescind an administrative review, in whole or in part, if the parties that requested the review withdraw their requests within 90 days of the date of publication of the notice of initiation of the requested review. All requesting parties withdrew their respective requests for an administrative review of the 60 companies or groups of companies listed in the Appendix to this notice within 90 days of the date of publication of the Initiation Notice. Accordingly, Commerce is rescinding this review with respect to these companies, in accordance with 19 CFR 351.213(d)(1).⁵ The administrative review will continue with respect to all other firms for which a review was requested and initiated.

⁵ See Appendix. As stated in Change in Practice in NME Reviews, Commerce will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (Change in Practice in NME Reviews). The China-wide entity is not subject to this administrative review because no interested party requested a review of the entity. See Initiation Notice.

Assessment

Commerce will instruct U.S. Customs and Border Protection (CBP) to assess antidumping duties on all subject merchandise exported by the companies listed in the Appendix to this notice that was entered, or withdrawn from warehouse, for consumption during the period of review. The entries shall be assessed AD duties that are equal to the cash deposit of estimated AD duties required at the time of entry, or withdrawal from warehouse, for consumption, in accordance with 19 CFR 351.212(c)(1)(i). Commerce intends to issue appropriate assessment instructions directly to CBP 15 days after publication of this notice.

Notification to Importers

This notice serves as the only reminder to importers whose entries will be liquidated as a result of this rescission notice, of their responsibility under 19 CFR 351.402(f)(2) to file a certificate regarding the reimbursement of AD duties prior to liquidation of the relevant entries during this review period. Failure to comply with this requirement could result in the presumption that reimbursement of the AD duties occurred and the subsequent assessment of doubled AD duties.

Notification Regarding Administrative Protective Orders

This notice also serves as a reminder to parties subject to administrative protective orders (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a sanctionable violation.

This notice is issued and published in accordance with sections 751(a)(1) and 777(i)(1) of the Act, and 19 CFR 351.213(d)(4).

Dated: August 31, 2018.
James Maeder,
Associate Deputy Assistant Secretary for Antidumping and Countervailing Duty Operations performing the duties of Deputy Assistant Secretary for Antidumping and Countervailing Duty Operations.

Appendix

• Dongguan Chengcheng Furniture Co., Ltd.

• Dongguan Mu Si Furniture Co., Ltd.

• Dongguan Nova Furniture Co., Ltd.

• Dongguan Singways Furniture Co., Ltd.

• Dongguan Sunshine Furniture Co., Ltd.

• Dongguan Yujia Furniture Co., Ltd.

• Dongguan Zhisheng Furniture Co., Ltd.

• Dorbest Ltd., Rui Feng Woodwork Co., Ltd. AKA Rui Feng Woodwork (Dongguan) Co., Ltd., Rui Feng Lumber Development Co., Ltd. AKA Rui Feng Lumber Development (Shenzhen) Co., Ltd.

• Dream Rooms Furniture (Shanghai) Co. Ltd.

• Fleetwood Fine Furniture LP

• Fortune Furniture Ltd., Dongguan Fortune Furniture Ltd.

• Fujian Lianfu Forestry Co., Ltd. (Aka Fujian Wonder Pacific, Inc.)

• Fuzhou Huan Mei Furniture Co., Ltd.

• Golden Well International (HK) Ltd.

• Guangdong New Four Seas Furniture Manufacturing Ltd.

• Guangzhou Lucky Furniture Co., Ltd.

• Guangzhou Maria Yee Furnishings Ltd., Pyla Hk Ltd., Maria Yee, Inc.

• Hang Hai Woodcrafts Art Factory

• Jiangmen Kinwai Furniture Decoration Co., Ltd.

• Jiangmen Kinwai International Furniture Co., Ltd.

• Jiangsu Dare Furniture Co., Ltd.

• Jiangsu Xiangsheng Bedtime Furniture Co., Ltd.

• Jiangsu Yuexing Furniture Group Co., Ltd.

• Jiashan Zhenxuan Furniture Co., Ltd.

• Jiedong Lehouse Furniture Co., Ltd.

• King's Way Furniture Industries Co., Ltd., Kingsyear Ltd.

• Nanhai Jiantai Woodwork Co., Ltd., Fortune Glory Industrial Ltd. (H.K. Ltd.)

• Nantong Wangzhuang Furniture Co. Ltd.

• Nantong Yangzi Furniture Co., Ltd.

• Nathan International Ltd., Nathan Rattan Factory

• Perfect Line Furniture Co., Ltd.

• Putian Jinggong Furniture Co., Ltd.

• Qingdao Beiyuan Shengli Furniture Co., Ltd., Qingdao Beiyuan Industry Trading Co., Ltd.

• Shanghai Jian Pu Export & Import Co., Ltd.

• Shanghai Maoji Imp and Exp Co., Ltd.

• Shenzhen Diamond Furniture Co., Ltd.

• Shenzhen Forest Furniture Co., Ltd.

• Shenzhen Jiafa High Grade Furniture Co., Ltd., Golden Lion International Trading Ltd.

• Shenzhen New Fudu Furniture Co., Ltd.

• Shenzhen Wonderful Furniture Co., Ltd.

• Shenzhen Xingli Furniture Co., Ltd.

• Shing Mark Enterprise Co., Ltd., Carven Industries Ltd. (BVI), Carven Industries Ltd. (HK), Dongguan Zhenxin Furniture Co., Ltd., Dongguan Yongpeng Furniture Co., Ltd.

• Songgang Jasonwood Furniture Factory, Jasonwood Industrial Co., Ltd. S.A.

• Sunforce Furniture (Hui-Yang) Co., Ltd., Sun Fung Wooden Factory, Sun Fung Company, Shin Feng Furniture Co., Ltd., Stupendous International Co., Ltd.

• Superwood Co., Ltd., Lianjiang Zongyu Art Products Co., Ltd.

• Tradewinds Furniture Ltd., Fortune Glory Industrial Ltd. (H.K. Ltd.)

• Tube-Smith Enterprise (Zhangzhou) Co., Ltd., Tube-Smith Enterprise (Haimen) Co., Ltd., Billonworth Enterprises Ltd.

• Weimei Furniture Co., Ltd.

• Wuxi Yushea Furniture Co., Ltd.

• Xiamen Yongquan Sci-Tech Development Co., Ltd.

• Xilinmen Group Co. Ltd.

• Yihua Lifestyle Technology Co., Ltd.

• Yihua Timber Industry Co., Ltd., Guangdong Yihua Timber Industry Co., Ltd.

• Zhangjiagang Daye Hotel Furniture Co., Ltd.

• Zhangzhou Guohui Industrial & Trade Co., Ltd.

• Zhejiang Tianyi Scientific & Educational Equipment Co., Ltd.

• Zhong Shan Fullwin Furniture Co., Ltd.

• Zhongshan Fookyik Furniture Co., Ltd.

• Zhongshan Golden King Furniture Industrial Co., Ltd.

• Zhoushan For-Strong Wood Co., Ltd.

[FR Doc. 2018-19569 Filed 9-7-18; 8:45 am]

BILLING CODE 3510-DS-P